DEPARTMENT OF THE INTERIOR

Bureau of Land Management

[LLNVW0300. L5110000. GN0000. LVEMF1000880 241A; 11-08807; MO#4500019124; TAS: 14X5017]

Notice of Intent To Prepare an Environmental Impact Statement for the Proposed Hycroft Mine Expansion Project, Humboldt and Pershing Counties, Nevada

AGENCY: Bureau of Land Management, Interior.

ACTION: Notice of Intent.

SUMMARY: In compliance with the National Environmental Policy Act of 1969, as amended (NEPA), and the Federal Land Policy and Management Act of 1976, as amended, the Bureau of Land Management (BLM) Winnemucca District, Black Rock Field Office, Winnemucca, Nevada intends to prepare an Environmental Impact Statement (EIS) and by this notice is announcing the beginning of the scoping process to solicit public comments and identify issues.

DATES: This notice initiates the public scoping process for the EIS. Comments on issues may be submitted in writing until June 30, 2011. The date(s) and location(s) of any scoping meetings will be announced at least 15 days in advance through local media, newspapers and the BLM Web site at: http://www.blm.gov/nv/st/en/fo/wfo.html. In order to be included in the Draft EIS, all comments must be received prior to the close of the scoping period or 15 days after the last public meeting, whichever is later. We will provide additional opportunities for public participation upon publication of the Draft EIS.

ADDRESSES: You may submit comments related to the Hycroft Mine Expansion Project by any of the following methods:

• Web site: http://www.blm.gov/nv/st/en/fo/wfo.html;

• E-mail: wfoweb@blm.gov;

• Fax: (775) 623-1503; or

• Mail: BLM Winnemucca District, Black Rock Field Office, 5100 E. Winnemucca Blvd., Winnemucca, Nevada 89445.

Documents pertinent to this proposal may be examined at the Black Rock Field Office.

FOR FURTHER INFORMATION CONTACT: For further information and/or to have your name added to our mailing list, contact Kathleen Rehberg, project lead, telephone: (775) 623-1500; e-mail: Kathleen_Rehberg@blm.gov.

SUPPLEMENTARY INFORMATION: Hycroft Resources and Development, Inc. (Hycroft) proposes to expand its existing open pit operation and associated disturbance of 1,371 acres by including an additional 2,041 acres in its operation. This would lead to operations on 3,412 acres of public land managed by the BLM Winnemucca District. The proposal would also add 1,812 acres of new disturbance on private land controlled by Hycroft. The proposed operations would extend the mine life by 12 years. The BLM regulates this operation through 43 CFR part 3809.

Current mining was analyzed in four previous environmental assessments: NV-020-4-25-EA, Lewis Mine Project, Decision Record (DR)/Finding of No Significant Impacts (FONSI) dated 4/4/1984; NV-020-07-31-EA, Crofoot Project, DR/FONSI dated 8/3/1987; NV020-05-19-EA Brimstone Pit Expansion Project, DR/FONSI dated 5/5/1995; NV-020-06-30-EA, Hycroft Crofoot/Lewis Mine, DR/FONSI dated 10/2/1996.

A range of alternatives will be developed, including the no-action alternative, to address the issues identified during scoping. Mitigation measures will be considered to minimize environmental impacts and to assure the proposed action does not result in unnecessary or undue degradation of public lands.

The purpose of the public scoping process is to determine relevant issues that will influence the scope of the environmental analysis, including alternatives, and guide the process for developing the EIS. At present, the BLM has identified the following preliminary issues:

(a) Waste rock dumps, heap leach pads, or pit walls may potentially produce acid rock drainage or heavy metals. These features need to be analyzed to ensure that the proposed action does not degrade the waters of the State or cause undue or unnecessary degradation of public lands; (b) Potential effects to the viewshed posed by the close proximity of the project to the Black Rock Desert-High Rock Canyon-Emigrant Trails National Conservation Area (NCA) and the Black Rock Desert Wilderness Area. While the project is outside of the NCA and the wilderness area, it is within the viewshed of both areas; (c) An updated inventory of lands with wilderness characteristics will be utilized in order to comply with Secretarial Order 3310 and should lands with wilderness characteristics be identified they will be considered in the NEPA process; (d) Wildlife issues include potential impacts to sage-grouse winter habitat, potential bighorn sheep habitat, and possible habitat for Townsend's big-eared bats; and (e) A BLM sensitive plant species, the Crosby buckwheat, and a Nevada at-risk plant, the sand cholla, have been observed in the project area.

The BLM will utilize and coordinate the NEPA commenting process to satisfy the public involvement process for Section 106 of the National Historic Preservation Act (16 U.S.C. 470f) as provided for in 36 CFR 800.2(d)(3). Native American tribal consultations will be conducted in accordance with policy, and tribal concerns will be given due consideration. Federal, State, and local agencies, along with other stakeholders that may be interested or affected by the BLM's decision on this project are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Gene Seidlitz,
Manager, Winnemucca District.

Authority: 40 CFR 1501, 43 U.S.C. 1701 et seq. and 43 CFR 3809.

[FR Doc. 2011-7718 Filed 3-31-11; 8:45 am]

BILLING CODE 4310-HC-P